FEDERAL MINE SAFETY AND HEALTH REVIEW COMMISSION

Sunshine Act Meetings

May 11, 2006.

FEDERAL REGISTER CITATION OF PREVIOUS ANNOUNCEMENT: Vol. 71, No. 84, at 25860, May 2, 2006.

PREVIOUSLY ANNOUNCED TIME AND DATE: 10 a.m., Thursday, May 18, 2006.

PLACE: The Richard V. Backley Hearing Room, 9th Floor, 601 New Jersey Avenue, NW., Washington, DC.

STATUS: Open.

CHANGE IN MEETING: The Commission has postponed the meeting to consider and act upon Secretary of Labor v. Cumberland Coal Resources, LP, Docket Nos. PENN 2004-73-R, PENN 2004-74-R, 2004-75-R, PENN 2004-85-R, PENN 2004-86-R, PENN 2004-87-R, PENN 2004-88-R, PENN 2004-104-R, PENN 2004-105-R, PENN 2004-181, and PENN 2005-8. No earlier announcement of the change in meeting was possible.

FOR FURTHER INFORMATION CONTACT: Jean Ellen, (202) 434-9950/(202) 708-9300 for TDD Relay/1-800-877-8339 for toll free.

Jean H. Ellen,
Chief Docket Clerk.

[FR Doc. 06-4676 Filed 5-16-06; 11:15 am]

BILLING CODE 6735-01-M